DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Business R&D and Innovation Survey.

OMB Control Number: 0607-0912.

Form Number(s): BRDI-1, BRDI-1A.

Type of Request: Revision of a currently approved collection.

Burden Hours: 155,450.

Number of Respondents: 40,000.

Average Hours Per Response: 3 hours and 53 minutes.

Needs and Uses: The National Science Foundation's (NSF) Division of Science Resources Statistics (SRS) and the U.S. Census Bureau's Economic Directorate have been engaged in a significant redesign of the Survey of Industrial Research and Development. To better understand how research and development (R&D) is actually conducted in today's innovative and global based economy, NSF has done extensive background work, starting with the Committee on National Statistics' Report Measuring Research and Development Expenditures in the U.S. Economy. NSF has hosted numerous meetings/workshops with external data users both in the federal government and private sector, and has conducted a number of recordkeeping visits to companies to understand what is collectable. To better understand the issues in the present survey, NSF has done extensive review of both the statistical and subject matter aspects of it. Current plans for the redesigned survey call for five core sections, which will comprise the fixed elements. NSF and the Census Bureau have conducted four rounds of cognitive interviews to test the new content, and a final round of testing on the entire questionnaire will be conducted in July and August 2008. Results from these interviews have been included in a generic clearance submitted by Census. In order for the new data to be included, and actually be the centerpiece of the National Science Board's Science and Engineering Indicators: 2012 report, NSF has required delivery of results from the redesigned survey in December 2010. To ensure this delivery, there are a number of groups composed of Census Bureau and SRS staff that have been working on components of the redesigned survey, such as; content testing, instrument development, frame creation, and sampling, edit, imputation and estimation methodologies as well as tabulation design and data dissemination. In addition, NSF is consulting with Dr. Donald Dillman of Washington State University, a noted survey methodology expert and scholar, on best approaches to the extensive questionnaire redesign and methods of response.

The result of this redesign will be a substantially new survey, and to emphasize that fact a new name has been selected, the Business R&D and Innovation Survey (BRDIS). This name was selected not only to highlight the emergence of the new survey, but also to emphasize that the survey covers the R&D and innovation activities of service as well as manufacturing companies. The 2008 BRDIS is being conducted as a pilot of the new survey, hence the possibility of releasing two years worth of data as reflected in the project schedule (section 16). Results from the 2008 BRDIS will be evaluated and may bring about changes for the 2009 BRDIS.

The National Science Foundation Act of 1950 as amended authorizes and directs NSF “* * * to provide a central clearinghouse for the collection, interpretation, and analysis of data on scientific and engineering resources and to provide a source of information for policy formulation by other agencies of the Federal government.” The SIRD has been and the new BRDIS will be the vehicle with which NSF carries out the business portion of this mandate. NSF together with the Census Bureau, the collecting and compiling agent, analyze the data and publish the resulting statistics.

Companies are the major performers of R&D in the United States, accounting for over 70 percent of total U.S. R&D outlays each year. A consistent business R&D information base is essential to government officials formulating public policy, industry personnel involved in corporate planning, and members of the academic community conducting research. To develop policies designed to promote and enhance science and technology, past trends and the present status of R&D and innovation must be evaluated. The survey, as now designed, will be the platform through which data on innovation activities in the business sector will be collected. Without comprehensive business R&D statistics, it would be impossible to evaluate the health of science and technology in the United States or to make comparisons between the technological progress of our country and that of other nations.

Affected Public: Business or other for-profit organizations.

Frequency: Annually.

Respondent's Obligation: Mandatory.

Legal Authority: Title 13 U.S.C., Section 182; National Science Foundation Act of 1950.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 13, 2008.
Gwellnar Banks,
Management Analyst, Office of the Chief Information Officer.

[FR Doc. E8-19059 Filed 8-15-08; 8:45 am]

BILLING CODE 3510-07-P